DEPARTMENT OF LABOR

Office of the Secretary

Submission for OMB Review: Comment Request

November 5, 2004.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Mine Accident, Injury & Illness Report and Quarterly Mine Employment and Coal Production Report (30 CFR 50.10; 50.11, 50.20 and 50.30).

OMB Number: 1219-0007.

Forms: MSHA 7000-1 and MSHA 7000-2.

Frequency: On occasion and Quarterly.

Type of Response: Recordkeeping and Reporting.

Affected Public: Business or other for-profit.

Number of Respondents: 26,250.

Collection of information | Annual responses | Average response time (hours) | Annual burden hours
MSHA Form 7000-1
Immediate Notification of MSHA
fatal accidents | 56 | 0.50 | 28
other accidents | 1,543 | 0.50 | 772
Investigation of Accidents and Occupational Injuries
fatal accidents | 56 | 80.00 | 4,480
nonfatal accidents | 1,631 | 16.00 | 26,096
other accidents | 12,735 | 1.00 | 12,735
Separate Reports of Investigation (mines w/ 20+ empl.)
fatal accidents | 36 | 4.00 | 144
other accidents | 11,424 | 1.00 | 11,424
Mine Accident, Injury, and Illness Reports
initial reports | 14,422 | 0.50 | 7,211
follow-up reports | 7,055 | 0.33 | 2,328
Form 7000-1 Sub-total | 48,958 |  | 65,218
MSHA Form 7000-2
Mailed Reponses | 74,401 | 0.50 | 37,201
Electronic Responses | 10,493 | 0.25 | 2,623
Form 7000-1 Sub-total | 84,894 |  | 39,824
Grand Total | 133,852 |  | 105,042

Total Annualized capital/startup costs: $0.

Total Annual Costs (operating/maintaining systems or purchasing services): $34,105.

Description: The reporting and recordkeeping provisions in 30 CFR part 50, Notification, Investigation, Reports and Records of Accidents, Injuries and Illnesses, Employment and Coal Production in Mines, are essential elements in MSHA's Congressional mandate to reduce work-related injuries and illnesses among the nation's miners.

Section 50.10 requires mine operators and mining contractors to immediately notify MSHA in the event of an accident. This immediate notification is critical to MSHA's timely investigation and assessment of the probable cause of the accident.

Section 50.11 requires that the operator or contractor investigate each accident and occupational injury and prepare a report. The operator or contractor may not use MSHA Form 7000-1 as a report, unless the mine employs fewer than 20 miners and the occurrence involves an occupational injury not related to an accident.

Section 50.20(a) requires mine operators and mining contractors to report each accident, injury, or illness to MSHA on Form 7000-1 within 10 working days after an accident or injury has occurred or an occupational illness has been diagnosed. The use of MSHA Form 7000-1 provides for uniform information gathering across the mining industry.

MSHA tabulates and analyzes the information from MSHA Form 7000-1, along with data from MSHA Form 7000-2, to compute incidence and severity rates for various injury types. These rates are used to analyze trends and to assess the degree of success of the health and safety efforts of MSHA and the mining industry.

Accident, injury, and illness data when correlated with employment and production data provide information that allows MSHA to improve its safety and health enforcement programs, focus its education and training efforts, and establish priorities for its technical assistance activities in mine safety and health. Maintaining a current database allows MSHA to identify and direct increased attention to those mines, industry segments, and geographical areas where hazardous trends are developing. This could not be done effectively utilizing historical data. The information collected under part 50 is the most comprehensive and reliable occupational data available concerning the mining industry.

Section 103(d) of the Federal Mine Safety and Health Act of 1977 (Mine Act) mandates that each accident be investigated by the operator to determine the cause and means of preventing a recurrence. Records of such accidents and investigations shall be kept and made available to the Secretary or his authorized representative and the appropriate State agency. Section 103(h) requires operators to keep any records and make any reports that are reasonably necessary for MSHA to perform its duties under the Mine Act. Section 103(j) of the Mine Act requires operators to notify MSHA of the occurrence of an accident and to take appropriate measures to preserve any evidence which would assist in the investigation into the cause or causes of the accident.

Data collected through MSHA Form 7000-1 and MSHA Form 7000-2 enable MSHA to publish timely quarterly and annual statistics, reflecting current safety and health conditions in the mining industry. These data are used not only by MSHA, but also by other Federal and State agencies, health and safety researchers, and the mining community to assist in measuring and comparing the results of health and safety efforts both in the United States and internationally.

Ira L. Mills,
Departmental Clearance Officer.

[FR Doc. 04-25385 Filed 11-15-04; 8:45 am]

BILLING CODE 4510-43-P